DEPARTMENT OF HOMELAND SECURITY

Coast Guard

33 CFR Part 100

[Docket No. USCG-2014-0192]

Special Local Regulation; Annual Marine Events on the Colorado River, between Davis Dam (Bullhead City, AZ) and Headgate Dam (Parker, AZ) Within the San Diego Captain of the Port Zone

AGENCY: Coast Guard, DHS.

ACTION: Notice of enforcement of regulation.

SUMMARY: The Coast Guard will enforce the 37th Annual Parker, AZ Tube Float marine event and associated waterway restriction special local regulations on June 7, 2014. This event occurs in the navigable waters of the Colorado River in Parker, Arizona, covering six miles from the La Paz County Park to the Headgate Dam. These special local regulations are necessary to provide for the safety of the participants, crew, spectators, and general users of the waterway. During the enforcement period, persons and vessels are prohibited from entering into, transiting through, or anchoring within this regulated area unless authorized by the Captain of the Port, or his designated representative.

DATES: This rule is effective from 7 a.m. to 3 p.m. on June 7, 2014.

FOR FURTHER INFORMATION CONTACT: If you have questions on this notice, call or email Petty Officer Giacomo Terrizzi, Waterways Management, U.S. Coast Guard Sector San Diego, CA; telephone (619) 278-7656, email D11-PF-MarineEventsSanDiego@uscg.mil.

SUPPLEMENTARY INFORMATION: The Coast Guard will enforce the special local regulations in 33 CFR 100.1102 in support of the annual Parker Tube Float, formerly known as the Great Western Tube Float (Item 9 on Table 1 of 33 CFR 100.1102), held on a Saturday in June. The Coast Guard will enforce the special local regulations on the Colorado River in Parker, AZ on Saturday June 7, 2014 from 7 a.m. to 3 p.m.

Under the provisions of 33 CFR 100.1102, persons and vessels are prohibited from entering into, transiting through, or anchoring within this regulated area of the Colorado River unless authorized by the Captain of the Port, or his designated representative. The Coast Guard may be assisted by other Federal, State, or local law enforcement agencies in enforcing this regulation.

This notice is issued under authority of 5 U.S.C. 552(a) and 33 CFR 100.1102. In addition to this notice in the Federal Register, the Coast Guard will provide the maritime community with advance notification of this enforcement period via the Local Notice to Mariners and local advertising by the event sponsor.

If the Captain of the Port Sector San Diego or his designated representative determines that the regulated area need not be enforced for the full duration stated on this notice, he or she may use a Broadcast Notice to Mariners or other communications coordinated with the event sponsor to grant general permission to enter the regulated area.

Dated: April 2, 2014.
S.M. Mahoney,
Captain, U.S. Coast Guard, Captain of the Port San Diego.

[FR Doc. 2014-10971 Filed 5-13-14; 8:45 am]

BILLING CODE 9110-04-P